NATIONAL AERONAUTICS AND SPACE ADMINISTRATION

[Notice (02-053)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). The information obtained in this collection will assist NASA in assessing the effectiveness of aviation safety programs.

DATES: All comments should be submitted within 60 calendar days from the date of this publication.

ADDRESSES: All comments should be addressed to Ms. Linda Connell, NASA Ames Research Center, MS 262-7, Moffett Field, CA 94035-1000.

FOR FURTHER INFORMATION CONTACT: Ms. Nancy Kaplan, NASA Reports Officer, (202) 358-1372.

Title: National Aviation Operations Monitoring Service: General Aviation Pilots.

OMB Number: 2700-.

Type of review: New collection.

Need and Uses: The information collected will be analyzed and used by NASA Aviation Safety Program managers to evaluate their progress in improving aviation over the next decade.

Affected Public: Individuals or households.

Number of Respondents: 10,000.

Responses Per Respondent: 1.

Annual Responses: 10,000.

Hours Per Request: Approx. ½ hour.

Annual Burden Hours: 6,280.

Frequency of Report: Quarterly; Annually.

David B. Nelson,
Deputy Chief Information Officer, Office of the Administrator.

[FR Doc. 02-10045 Filed 4-23-02; 8:45 am]

BILLING CODE 7510-01-P